DEPARTMENT OF ENERGY

Federal Energy Regulatory Commission

[Docket No. ER02-1656-021, et al.]

California Independent System Operator Corporation, et al.; Electric Rate and Corporate Filings

December 13, 2004.

The following filings have been made with the Commission. The filings are listed in ascending order within each docket classification.

1. California Independent SystemOperator Corporation

[Docket No. ER02-1656-021]

Take notice that on December 8, 2004, the California Independent System Operator Corporation (CAISO) submitted its proposed conceptual treatment of existing transmission contracts under the CAISO's amended comprehensive market design proposal. The CAISO requests that the Commission approve the ETC Proposal by February 18, 2005.

The CAISO states that this filing has been served upon the Public Utilities Commission of the State of California, the California Energy Commission, the California Electricity Oversight Board, all parties with Scheduling Coordinator Agreements under the CAISO Tariff, and all parties on the official service list for the captioned docket. In addition, the CAISO states that it has posted this filing on its Home Page.

Comment Date: 5 p.m. eastern time on December 29, 2004.

2. Tucson Electric Power Company

[Docket No. ER04-1210-001]

Take notice that, on December 2, 2004, Tucson Electric Power Company (Tucson Electric) submitted a compliance filing pursuant to a Commission letter order issued on November 5, 2004 in Docket No. ER04-1210-000.

Tucson Electric states that copies of the filing were served on parties on the official service list in the above-captioned proceeding.

Comment Date: 5 p.m. eastern time on December 23, 2004.

3. Avista Turbine Power, Inc.

[Docket No. ER05-311-000]

Take notice that on December 7, 2004, Avista Turbine Power, Inc. (Avista Turbine) filed with the Commission a revised market based rate tariff to incorporate the market behavior rules contained in the November 17, 2003, Order Amending Market-Based Tariffs and Authorizations, 105 FERC ¶ 61,218 (2003).

Comment Date: 5 p.m. eastern time on December 28, 2004.

4. FPL Energy Marcus Hook, L.P.

[Docket No. ER05-316-000]

Take notice that on December 8, 2004, FPL Energy Marcus Hook, L.P. (Marcus Hook) submitted its rate schedule and supporting cost data for a proposed reactive support and voltage control from generation sources service for its cogeneration facility located in Marcus Hook, Pennsylvania. Marcus Hook requests an effective date of February 1, 2005.

Comment Date: 5 p.m. eastern time on December 29, 2004.

5. Pajaro Energy Center, LLC

[Docket No. ER05-317-000]

Take notice that on December 8, 2004, Pajaro Energy Center, LLC (Pajaro) filed a notice of cancellation of its Rate Schedule FERC No. 1. Pajaro requests an effective date of December 9, 2004.

Comment Date: 5 p.m. eastern time on December 29, 2004.

6. PJM Interconnection, L.L.C.

[Docket No. ER05-318-000]

Take notice that on December 8, 2004, PJM Interconnection, L.L.C. (PJM), submitted for filing an executed interconnection service agreement (ISA) among PJM, MM Hackensack Energy, LLC, and Public Service Electric and Gas Company, and a notice of cancellation of an interconnection service agreement that has been superseded. PJM requests an effective date of November 8, 2004.

PJM states that copies of this filing were served upon the parties to the agreement and the state regulatory commissions within the PJM region.

Comment Date: 5 p.m. eastern time on December 29, 2004.

7. PJM Interconnection, L.L.C.

[Docket No. ER05-319-000]

Take notice that on December 8, 2004, PJM Interconnection, L.L.C. (PJM), submitted for filing an executed interconnection service agreement (ISA) among PJM, MM Hackensack Energy, LLC, and Public Service Electric and Gas Company, and a notice of cancellation of an interconnection service agreement that has been superseded. PJM requests an effective date of November 8, 2004.

PJM states that copies of this filing were served upon the parties to the agreement and the state regulatory commissions within the PJM region.

Comment Date: 5 p.m. eastern time on December 29, 2004.

Standard Paragraph:

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-3729 Filed 12-17-04; 8:45 am]

BILLING CODE 6717-01-P